DEPARTMENT OF HEALTH AND HUMAN SERVICES

Centers for Disease Control and Prevention

[60-Day-08-09AA]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

BioSense Recruitment Survey for Data Collection—New—National Center for Public Health Informatics (NCPHI), Coordinating Center for Health Information and Service (CCHIS), Centers for Disease Control and Prevention (CDC).

Background and Brief Description

Congress passed the Public Health Security and Bioterrorism Preparedness and Response Act of 2002, which requires specific activities related to bioterrorism preparedness and response. This congressional mandate outlines the need for improving the overall public's health through electronic surveillance. The Department of Health and Human Services outlined strategies aimed at achieving this goal via the Public Health IT Initiative thereby creating the BioSense program.

BioSense is the national, human health surveillance system designed to improve the nation's capabilities for disease detection, monitoring, and real-time health situational awareness. This work is enhanced by providing public health real-time access to existing data from healthcare organizations, state syndromic surveillance systems, national laboratories, and others for just in time public health decision-making. BioSense data are analyzed and made accessible through the BioSense application. The application provides data, charts, graphs, and maps through a secure Web-based interface which can be accessed by CDC and authorized state and local public health and hospital users.

In order to meet the congressional mandate, the BioSense program must recruit prospective data sources and collect certain information from each. This includes information on the types of data available, the types of computer systems used, and the approximate record volume. This information is used by BioSense personnel and contractors to design hardware and software to connect the potential data source. To collect this information, a series of questionnaires in an Excel spreadsheet have been designed. Data collection will take place during and after on-site visits by BioSense personnel and contractors. We estimate that such data will be collected from 20 new entities (each representing many facilities or clinics) each year.

A second requirement is that electronic data records be transmitted to the BioSense system. Currently, data are transmitted from 35 entities, including 8 state or local health departments and 22 hospitals/hospital groups (which collectively transmit data from 460 hospitals); the Department of Veterans Affairs (which transmits data from 820 facilities), the Department of Defense (which transmits data from 320 facilities), 2 national laboratories, and one pharmacy claims system (which transmits data from >30,000 pharmacies). The data may include foundational data (e.g., demographics, chief complaint, diagnosis), laboratory data, pharmacy data, radiology data, or detailed emergency department data (e.g., vital signs, triage notes, medications). All are submitted via electronic record transmission, generally using a software program called PHIN-MS. A large number of electronic records are transmitted from each entity each year; however, once the automated interfaces are set up for transmission, there is no human burden for record transmission.

There are no costs to prospective data sources other than their time.

Estimated Annualized Burden Hours
Instrument type | Number of respondents | Number of responses per respondent | Average burden per response (in hours) | Total burden (in hours)
Recruitment of perspective data source entities | 20 | 1 | 4/60 | 1.5
Total |  |  |  | 1.5

Dated: October 7, 2008.
Maryam I. Daneshvar,
Acting Reports Clearance Officer, Centers for Disease Control and Prevention.

[FR Doc. E8-24558 Filed 10-15-08; 8:45 am]

BILLING CODE 4163-18-P